DEPARTMENT OF THE INTERIOR

Fish and Wildlife Service

50 CFR Part 17

[Docket No. FWS-R1-ES-2020-0079; FF09E22000 FXES11130900000 212]

RIN 1018-BE02

Endangered and Threatened Wildlife and Plants; Reclassification of the Hawaiian Stilt From Endangered to Threatened With a Section 4(d) Rule

AGENCY: Fish and Wildlife Service, Interior.

ACTION: Proposed rule; reopening of comment period, and announcement of a public informational meeting and public hearing.

SUMMARY: We, the U.S. Fish and Wildlife Service (Service), recently proposed to reclassify the Hawaiian stilt (Himantopus mexicanus knudseni) from an endangered species to a threatened species with a rule issued under section 4(d) of the Endangered Species Act of 1973 (Act), as amended. We are reopening the proposed rule comment period to give all interested parties an additional opportunity to comment on the proposed rule. We also announce a public informational meeting and public hearing on the proposed rule. Comments previously submitted need not be resubmitted as they are already incorporated into the public record and will be fully considered in the final rule.

DATES: Comment submission: The comment period on the proposed rule that published March 25, 2021 (86 FR 15855), is reopened. We will accept comments received or postmarked on or before July 23, 2021. Comments submitted electronically using the Federal eRulemaking Portal (see ADDRESSES, below) must be received by 11:59 p.m. Eastern Time on the closing date.

Public informational meeting and public hearing: On July 7, 2021, we will hold a public informational meeting from 5 p.m. to 6 p.m. Hawaii Time, followed by a public hearing from 6 p.m. to 8 p.m. Hawaii Time.

ADDRESSES: Availability of documents: You may obtain copies of the March 25, 2021, proposed rule and associated documents on the internet at http://www.regulations.gov under Docket No. FWS-R1-ES-2020-0079.

Comment submission: You may submit comments by one of the following methods:

(1) Electronically: Go to the Federal eRulemaking Portal: http://www.regulations.gov. In the Search box, enter FWS-R1-ES-2020-0079, which is the docket number for the March 25, 2021, proposed rule. Then click on the Search button. On the resulting page, in the Search panel on the left side of the screen, under the Document Type heading, click on the Proposed Rule box to locate this document. You may submit a comment by clicking on “Comment Now!”

(2) By hard copy: Submit by U.S. mail to: Public Comments Processing, Attn: Docket No. FWS-R1-ES-2020-0079, U.S. Fish and Wildlife Service, MS: PRB/3W, 5275 Leesburg Pike, Falls Church, VA 22041-3803.

We request that you send comments only by the methods described above. We will post all comments on http://www.regulations.gov. This generally means that we will post any personal information you provide us (see Public Comments, below, for more information).

Public informational meeting and public hearing: The public informational meeting and the public hearing will be held virtually using the Zoom platform. See Public Hearing, below, for more information.

FOR FURTHER INFORMATION CONTACT: Greg Koob, Deputy Field Supervisor for Programmatic Operations, U.S. Fish and Wildlife Service, Pacific Islands Fish and Wildlife Office, 300 Ala Moana Boulevard, Room 3-123, Honolulu, HI 96850; telephone 808-792-9449. Persons who use a telecommunications device for the deaf (TDD) may call the Federal Relay Service at 800-877-8339.

SUPPLEMENTARY INFORMATION:

Background

On March 25, 2021, we published a proposed rule (86 FR 15855) to reclassify the Hawaiian stilt from endangered to threatened (i.e., to “downlist” the species) with a rule issued under section 4(d) of the Act (16 U.S.C. 1531 et seq.). The proposed rule opened a 60-day public comment period, ending May 24, 2021. During the open comment period, we received a request for a public hearing from the Center for Biological Diversity. Therefore, we are reopening the comment period on the March 25, 2021, proposed rule and announcing a public informational meeting and a public hearing to allow the public an additional opportunity to provide comments on the proposed rule.

For a description of previous Federal actions concerning the Hawaiian stilt and information on the types of comments that would be helpful to us in promulgating this rulemaking action, please refer to the March 25, 2021, proposed rule (86 FR 15855).

Public Comments

If you submit information via http://www.regulations.gov, your entire submission—including any personal identifying information—will be posted on the website. If your submission is made via hard copy that includes personal identifying information, you may request at the top of your document that we withhold this information from public review. However, we cannot guarantee that we will be able to do so. We will post all hardcopy submissions on http://www.regulations.gov. Comments and materials we receive, as well as supporting documentation we used in preparing the proposed rule, will be available for public inspection on http://www.regulations.gov.

Public Hearing

We have scheduled a public informational meeting and public hearing on our March 25, 2021, proposed rule to downlist the Hawaiian stilt with a rule issued under section 4(d) of the Act (86 FR 15855). We will hold the public informational meeting and public hearing on the date and at the times listed above under Public informational meeting and public hearing in DATES. We are holding the public informational meeting and public hearing via the Zoom online video platform and via teleconference so that participants can attend remotely. For security purposes, registration is required. To listen and view the meeting and hearing via Zoom, listen to the meeting and hearing by telephone, or provide oral public comments at the public hearing via Zoom or by telephone, you must register. For information on how to register, or if you encounter problems joining Zoom the day of the meeting, visit https://www.fws.gov/pacificislands. Registrants will receive the Zoom link and the telephone number for the public informational meeting and public hearing. If applicable, interested members of the public not familiar with the Zoom platform should view the Zoom video tutorials (https://support.zoom.us/hc/en-us/articles/206618765-Zoom-video-tutorials) prior to the public informational meeting and public hearing.

The public hearing will provide interested parties an opportunity to present verbal testimony (formal, oral comments) regarding the March 25, 2021, proposed rule to downlist the Hawaiian stilt with a rule issued under section 4(d) of the Act (86 FR 15855). While the public informational meeting will be an opportunity for dialogue with the Service, the public hearing is not. The purpose of the public hearing is to provide a forum for accepting formal verbal testimony, which will then become part of the record for the proposed rule. In the event there is a large attendance, the time allotted for verbal testimony may be limited. Therefore, anyone wishing to provide verbal testimony at the public hearing is encouraged to provide a prepared written copy of their statement to us through the Federal eRulemaking Portal or by U.S. mail (see ADDRESSES, above). There are no limits on the length of written comments submitted to us. Anyone wishing to provide verbal testimony at the public hearing must register before the hearing (https://www.fws.gov/pacificislands). The use of a virtual public hearing is consistent with our regulations in title 50 of the Code of Federal Regulations (CFR) at § 424.16(c)(3) (50 CFR 424.16(c)(3)).

Reasonable Accommodation

The Service is committed to providing access to the public informational meeting and public hearing for all participants. Closed captioning will be available during the public informational meeting and public hearing. Further, a full audio and video recording and transcript of the public hearing will be posted online at https://www.fws.gov/pacificislands after the hearing. Participants will also have access to live audio during the public informational meeting and public hearing via their telephone or computer speakers. Persons with disabilities requiring reasonable accommodations to participate in the meeting and/or hearing should contact the person listed under FOR FURTHER INFORMATION CONTACT at least 5 business days prior to the date of the meeting and hearing to help ensure availability. An accessible version of the Service's public informational meeting presentation will also be posted online at https://www.fws.gov/pacificislands prior to the meeting and hearing (see DATES, above). See https://www.fws.gov/pacificislands for more information about reasonable accommodation.

Authors

The primary author of this document is Ecological Services staff of the Interior-Region 9/12 Regional Office, U.S. Fish and Wildlife Service, Portland, Oregon.

Authority

The authority for this action is the Endangered Species Act of 1973, as amended (16 U.S.C. 1531 et seq.).

Signing Authority

The Director, U.S. Fish and Wildlife Service, approved this document and authorized the undersigned to sign and submit the document to the Office of the Federal Register for publication electronically as an official document of the U.S. Fish and Wildlife Service. Martha Williams, Principal Deputy Director Exercising the Delegated Authority of the Director, U.S. Fish and Wildlife Service, approved this document on June 21, 2021, for publication.

Anissa Craghead,
Acting Regulations and Policy Chief, Division of Policy, Economics, Risk Management, and Analytics, Joint Administrative Operations, U.S. Fish and Wildlife Service.

[FR Doc. 2021-13290 Filed 6-22-21; 8:45 am]

BILLING CODE 4333-15-P